DEPARTMENT OF DEFENSE

Department of the Army; Corps of Engineers

Public Scoping Meeting and Preparation of Draft Environmental Impact Statement for Widening of the Freeport Ship Channel in Freeport, Brazoria County, TX

AGENCY: Department of the Army, U.S. Army Corps of Engineers, DOD.

ACTION: Notice of intent.

SUMMARY: The U.S. Army Corps of Engineers, Galveston District intends to prepare a Draft Environmental Impact Statement (DEIS) to assess the social, economic and environmental effects of the proposed widening of portions of the Freeport Harbor Entrance and Jetty Channels. The DEIS will assess potential impacts of a range of alternatives, including the No Action and preferred alternatives. The Federal action is consideration of a Department of Army Permit application for work under section 10 of the Rivers and Harbors Act of 1899 (33 U.S.C. 403), section 404 of the Clean Water Act (33 U.S.C. 1344) and section 103 of the Marine Protection Research and Sanctuary Act (33 U.S.C. 1413).

DATES: A public scoping meeting will be held on November 29, 2005 at 7 p.m.

ADDRESSES: The meeting will be held at the Freeport Community House, 1300 W. 2nd, Freeport, TX 77541.

FOR FURTHER INFORMATION CONTACT: Mr. Bryan Herczeg, Project Manager, by letter at U.S. Army Corps of Engineers, P.O. Box 1229, Galveston, Texas 77553, by telephone at (409) 766-6389, or by e-mail at bryan.a.herczeg@usace.army.mil.

SUPPLEMENTARY INFORMATION: The Galveston District intends to prepare a DEIS on the proposed channel widening of portions of the Freeport Harbor Channel, which leads to Freeport Harbor, Freeport, Brazoria County, TX. The Brazos River Harbor Navigation District (Port of Freeport) proposes this project.

1. Description of the Proposed Project: The Port of Freeport is proposing to widen the Freeport Harbor Channel as follows:

a. From Channel Station 63+35, near the U.S. Coast Guard Station, to Channel Station 45+00, the channel will be widened gradually an additional 0 to 150 feet;

b. From Channel Station 45+00 to Channel Station 40+00, the Channel will be widened an additional 150 to 200 feet;

c. From 40+00, in the Jetty Channel to the end of the existing Entrance Channel, the channel will be widened by 200 feet, from the existing channel width of 400 feet to 600 feet;

d. The depth of the channel will be as at present, 47 feet in the Jetty Channel (45 feet project depth plus 2 feet advanced maintenance) and 49 feet in the Entrance Channel (45 feet project depth plus 2 feet advanced maintenance plus 2 feet allowable overdraft);

e. Approximately 3.2 million cubic yards (mcy) of dredged material will be generated from the widening project; and

f. Approximately 300,000 cubic yards of dredged material will be used beneficially for beach nourishment on Quintana Beach and the remainder of the dredged material will be placed offshore approximately 2.5 miles off Quintana in approximately 40 feet of water.

2. Scoping and Public Involvement Process: A scoping meeting to gather information on the subjects to be studied in detail in the DEIS will be conducted on (see DATES). An informal open house, allowing for review of the proposed project and questions and answers, will be conducted between 5 and 7 p.m., prior to the scoping meeting.

3. Significant Issues: Issues associated with the proposed project to be given significant analysis in the DEIS are likely to include, but may not be limited to, the potential impacts of the proposed dredging, dredged material placement, the beneficial uses of dredged material, water quality, fish and wildlife values including threatened and endangered species; air quality; environmental justice; socioeconomic environment; archaeological and cultural resources; recreation and recreational resources; energy supply and natural resources; hazardous waste and materials; aesthetics; public health and safety; navigation; shoreline erosion and accretion; cumulative impacts, and the needs and welfare of the people.

4. Technical Review and Consultation: Several State and Federal Agencies will be invited to provide technical review of the DEIS. Those agencies include: The Environmental Protection Agency, National Marine Fisheries Service, United States Fish and Wildlife Service, the United States Coast Guard, Texas Commission on Environmental Quality, Texas General Land Office, Texas Parks and Wildlife Department and the Texas Department of Transportation.

5. Additional Review and Consultation: Additional review and consultation that will be incorporated into the preparation of this DEIS will include: Compliance with the Texas Coastal Management Program; protection of cultural resources under Section 106 of the National Historic Preservation Act; protection of navigation under the Rivers and Harbors Act of 1899; protection of water quality under section 401 of the Clean Water Act; protection of air quality under the Clean Air Act; and protection of endangered and threatened species under section 7 of the Endangered Species Act.

6. Availability of the DEIS: The Draft Environmental Impact Statement is projected to be available in September 2006. At this time the Galveston District plans to conduct a Public Hearing following the release of the DEIS.

Brenda S. Bowen,
Army Federal Register Liaison Officer.

[FR Doc. 05-21521 Filed 10-27-05; 8:45 am]

BILLING CODE 3710-52-M